DEPARTMENT OF JUSTICE

[CPCLO Order No. 002-2015]

Privacy Act of 1974; System of Records

AGENCY: Department of Justice.

ACTION: Notice of a modified system of records.

SUMMARY: Pursuant to the Privacy Act of 1974, 5 U.S.C. 552a, and Office of Management and Budget (OMB) Circular No. A-130, notice is hereby given that the Department of Justice (Department or DOJ) proposes to amend an existing Department-wide system of records notice titled, “Debt Collection Enforcement System,” JUSTICE/DOJ-016, last published at 77 FR 9965, on February 21, 2012. The Department is adding one new routine use to the Debt Collection Enforcement System.

DATES: In accordance with 5 U.S.C. 552a(e)(4) and (11), the public is given a 30-day period in which to comment. Therefore, please submit any comments by April 20, 2015.

ADDRESSES: The public, OMB, and Congress are invited to submit any comments to the Department of Justice, ATTN: Privacy Analyst, Office of Privacy and Civil Liberties, National Place Building, 1331 Pennsylvania Avenue NW., Suite 1000, Washington, DC 20530, or by facsimile at (202) 307-0693.

FOR FURTHER INFORMATION CONTACT: Dennis Dauphin, Director, Debt Collection Management Staff, Justice Management Division, U.S. Department of Justice, 145 N. Street NE., Washington, DC 20530, phone 202-514-7322.

SUPPLEMENTARY INFORMATION: The DOJ published a new Department-wide Privacy Act system of records notice on February 21, 2012, titled “Debt Collection Enforcement System,” JUSTICE/DOJ-016, to reflect the consolidation of the Department's debt collection enforcement systems that were previously maintained in various individual DOJ components into a single, centralized system. This system of records is maintained by the Department to cover records used by the Department's components or offices, and/or contract private counsel retained by DOJ to perform legal, financial and administrative services associated with the collection of debts due the United States, including related negotiation, settlement, litigation, and enforcement efforts. The DOJ also published an accompanying exemption regulation on April 18, 2012 (77 FR 23117), to exempt certain records in this system of records from certain provisions of the Privacy Act.

In this modification, DOJ proposes to add a new routine use, paragraph “u”, to allow information from the Debt Collection Enforcement System to be disclosed to Federal or state agencies for the purpose of identifying, preventing, or recouping improper payments to an applicant for, or recipient of, Federal funds, including funds disbursed by a state in a state-administered, federally-funded program. This transfer of information is authorized pursuant to the Improper Payments Elimination and Recovery Act of 2010, as amended by the Improper Payments Elimination and Recovery Improvement Act of 2012; E.O. 13520, dated November 20, 2009; and Presidential Memorandum—Enhancing Payment Accuracy Through a “Do Not Pay List,” dated June 18, 2010, which required agencies to review existing databases known collectively as the “Do Not Pay List” before the release of any Federal funds. The purpose of the “Do Not Pay List” is to help prevent, reduce, and stop improper payments from being made, and to identify and mitigate fraud, waste, and abuse.

In accordance with 5 U.S.C. 552a(r), the Department has provided a report to OMB and Congress on this modified system of records.

Dated: February 25, 2015.
Erika Brown Lee,
Chief Privacy and Civil Liberties Officer, United States Department of Justice.

* * * * *

ROUTINE USES OF RECORDS MAINTAINED IN THE SYSTEM, INCLUDING CATEGORIES OF USERS AND THE PURPOSES OF SUCH USES:

(u) For the purpose of identifying, preventing, or recouping improper payments to an applicant for, or recipient of, Federal funds, including funds disbursed by a state in a state-administered, Federally-funded program, information from this system may be disclosed to (a) a Federal or state agency, its employees, agents (including contractors of its agents) or contractors; or (b) a fiscal or financial agent designated by the Financial Management Service or other Department of the Treasury bureau or office, including employees, agents or contractors of such agent; or (c) a contractor of the Financial Management Service.

* * * * *

[FR Doc. 2015-06335 Filed 3-18-15; 8:45 am]

BILLING CODE 4410-CN-P